DEPARTMENT OF THE INTERIOR

Bureau of Indian Affairs

[167A2100DD/AAKC001030/A0A501010.999900]

Receipt of Documented Petitions for Federal Acknowledgment of American Indian Tribes

AGENCY: Bureau of Indian Affairs, Interior.

ACTION: Notice.

SUMMARY: Under Part 83 of Title 25 of the Code of Federal Regulations (25 CFR part 83), the Department of the Interior (Department) gives notice of three groups that have each filed a documented petition for Federal acknowledgment as an American Indian tribe with the Assistant Secretary—Indian Affairs. The Department seeks comment and evidence from the public on the petitions listed below.

DATES: Comments and evidence must be postmarked March 28, 2016.

ADDRESSES: Copies of the narrative portion of the documented petitions, as submitted by the petitioner (with any redactions appropriate under § 83.21(b)), and other information are available at the Office of Federal Acknowledgment's (OFA) Web site: www.bia.gov/WhoWeAre/AS-IA/OFA. Submit any comments or evidence to: Mr. R. Lee Fleming, Director, Office of Federal Acknowledgment, U.S. Department of the Interior, MS-34B-SIB, 1951 Constitution Avenue NW., Washington, DC 20240 or by email to: lee.fleming@bia.gov.

FOR FURTHER INFORMATION CONTACT: Mr. R. Lee Fleming, OFA Director, Office of the Assistant Secretary—Indian Affairs, (202) 513-7650.

SUPPLEMENTARY INFORMATION: On July 31, 2015, the Department's revisions to 25 CFR part 83 became final and effective (80 FR 37861). A key goal of the revisions was to improve transparency through increased notice of petitions and providing improved public access to petitions. Today the Department informs the public that three documented petitions have been submitted under the current regulations, that portions of those petitions are publically available on the Web site identified below for easy access, and that we are seeking public comment early in the process on these petitions.

Pursuant to the regulations, OFA notified 15 groups that the Department had identified them as having previously submitted complete documented petitions, under the 1994 acknowledgment regulations, which had not yet received final agency decisions. Section 83.7 of the regulations allow petitioners that have submitted a complete documented petition but have not yet received a final agency decision to choose whether to proceed applying those standards and processes set forth in the current regulations or the standards and processes of the superseded regulations; 25 CFR part 83, revised as of February 25, 1994 (59 FR 9280). This notice informs the public that three petitioners have submitted complete documented petitions and are proceeding under the standards and processes set forth in the current regulations. Two of these petitioners elected not to supplement their petitions, and one elected to supplement its petition and did so immediately.

Under § 83.22(b)(1), OFA publishes notice that the following groups have each filed a documented petition for Federal acknowledgment as American Indian tribes to the Assistant Secretary—Indian Affairs:

○ Muscogee Nation of Florida

c/o Ms. Ann D. Tucker, 278 Church Road, Bruce, Florida 32455;

○ Piro/Manso/Tiwa Indian Tribe of the Pueblo of San Juan Guadalupe

c/o Mr. Edward Roybal, II, 4048 Calle De Estrellas, Las Cruces, New Mexico 88012; and

○ Fernandeño Tataviam Band of Mission Indians

c/o Mr. Rudy Ortega, Jr., 1019 Second Street, #1, San Fernando, California 91340.

Under § 83.22, OFA also publishes on its Web site the following:

(i) The name, location, and mailing address of the petitioner and other information to identify the entity;

(ii) The date of receipt;

(iii) The narrative portion of the documented petition, as submitted by the petitioner (with any redactions appropriate under § 83.21(b));

(iv) The opportunity for individuals and entities to submit comments and evidence supporting or opposing the petitioner's request for acknowledgment within 120 days of the date of the Web site posting (postmarked by the date in the DATES section of this notice); and

(v) The opportunity for individuals and entities to request to be kept informed of general actions regarding a specific petitioner.

Additionally, OFA is required under § 83.22(c) to publish on the Web site other portions of the documented petition, to the extent feasible and allowable under Federal law, except documentation and information protectable from disclosure under Federal law, as identified by Petitioner under § 83.21(b) or otherwise.

The Department publishes this notice and request for comment in the exercise of authority delegated by the Secretary of the Interior to the Assistant Secretary—Indian Affairs by 209 DM 8.

Dated: November 20, 2015.
Kevin K. Washburn,
Assistant Secretary—Indian Affairs.

[FR Doc. 2015-30228 Filed 11-25-15; 8:45 am]

BILLING CODE 4337-15-P